DEPARTMENT OF ENERGY

10 CFR Part 430

[Docket No. EERE-2014-BT-TP-0034]

Energy Conservation Program: Test Procedures for Residential Clothes Dryers

AGENCY: Office of Energy Efficiency and Renewable Energy, Department of Energy.

ACTION: Notice of public meeting.

SUMMARY: The U.S. Department of Energy (DOE) will hold a public meeting to facilitate a discussion among interested parties with regards to potential changes to the DOE clothes dryer test procedure to produce test results that measure energy use during a representative average use cycle without being unduly burdensome to conduct.

DATES: DOE will hold a public meeting on November 13, 2014, from 9:00 a.m. to 12:00 Noon in Washington, DC. Additionally, DOE plans to conduct the public meeting via webinar. You may attend the public meeting either in person or via webinar.

DOE will accept comments, data, and information before and after the public meeting, but no later than December 15, 2014. See section Public Participation for details.

ADDRESSES: The public meeting will be held at the U.S. Department of Energy, Forrestal Building, Room 4A-104, 1000 Independence Avenue SW., Washington, DC 20585-0121. To attend, please notify Ms. Brenda Edwards at (202) 586-2945. See, Public Participation for additional meeting information.

Any comments submitted must identify the NOPM for Test Procedures for Residential Clothes Dryers, and provide docket number EERE-2014-BT-TP-0034. Comments may be submitted using any of the following methods:

1. Federal eRulemaking Portal: www.regulations.gov. Follow the instructions for submitting comments.

2. Email: ResClothesDryer2014TP0034@ee.doe.gov. Include the docket number in the subject line of the message.

3. Mail: Ms. Brenda Edwards, U.S. Department of Energy, Building Technologies Program, Mailstop EE-5B, 1000 Independence Avenue SW., Washington, DC, 20585-0121. If possible, please submit all items on a CD. It is not necessary to include printed copies.

4. Hand Delivery/Courier: Ms. Brenda Edwards, U.S. Department of Energy, Building Technologies Program, 950 L'Enfant Plaza SW., Suite 600, Washington, DC 20024. Telephone: (202) 586-2945. If possible, please submit all items on a CD, in which case it is not necessary to include printed copies.

For detailed instructions on submitting comments and additional information on the rulemaking process, see section Public Participation of this document.

Webinar: Registration information, participant instructions, and information about the capabilities available to webinar participants will be published on DOE's Web site at: http://www1.eere.energy.gov/buildings/appliance_standards/product.aspx/productid/36. Participants are responsible for ensuring their systems are compatible with the webinar software.

Docket: The docket is available for review at http://www.regulations.gov, and will include Federal Register notices, notice of proposed rulemaking, public meeting attendee lists and transcripts, comments, and other supporting documents/materials throughout the rulemaking process. The regulations.gov Web page contains simple instructions on how to access all documents, including public comments, in the docket. The docket can be accessed by searching for docket number EERE-2014-BT-TP-0034 on the regulations.gov Web site. All documents in the docket are listed in the www.regulations.gov index. However, not all documents listed in the index may be publicly available, such as information that is exempt from public disclosure.

For information on how to review the docket or participate in the public meeting, contact Ms. Brenda Edwards at (202) 586-2945 or by email: Brenda.Edwards@ee.doe.gov.

FOR FURTHER INFORMATION CONTACT:

Mr. Bryan Berringer, U.S. Department of Energy, Office of Energy Efficiency and Renewable Energy, Building Technologies Program, EE-2J, 1000 Independence Avenue SW., Washington, DC 20585-0121. Telephone: (202) 586-0371. Email: clothes_dryers@ee.doe.gov.

Ms. Sarah Butler, U.S. Department of Energy, Office of the General Counsel, GC-71, 1000 Independence Avenue SW., Washington, DC 20585-0121. Telephone: (202) 586-1777. Email: Sarah.Butler@hq.doe.gov.

SUPPLEMENTARY INFORMATION: Title III, Part B ¹ of the Energy Policy and Conservation Act of 1975 (“EPCA” or, “the Act”), Pub. L. 94-163 (42 U.S.C. 6291, et seq.) sets forth a variety of provisions designed to improve energy efficiency and established the Energy Conservation Program for Consumer Products Other Than Automobiles.² These include residential clothes dryers, the subject of today's notice. (42 U.S.C. 6292(a)(8))

¹ For editorial reasons, upon codification in the U.S. Code, Part B was redesignated as Part A.

² All references to EPCA refer to the statute as amended through the American Energy Manufacturing Technical Corrections Act (AEMTCA), Public Law 112-210 (Dec. 18, 2012).

Under EPCA, the energy conservation program consists essentially of four parts: (1) Testing, (2) labeling, (3) Federal energy conservation standards, and (4) certification and enforcement procedures. The testing requirements consist of test procedures that manufacturers of covered products must use as the basis for (1) certifying to DOE that their products comply with the applicable energy conservation standards adopted under EPCA, and (2) making representations about the efficiency of those products. (42 U.S.C. 6293(c); 42 U.S.C. 6295(s)) Similarly, DOE must use these test procedures to determine whether the products comply with any relevant standards promulgated under EPCA. (42 U.S.C. 6295(s))

Under 42 U.S.C. 6293, EPCA sets forth the criteria and procedures DOE must follow when prescribing or amending test procedures for covered products, including clothes dryers. EPCA provides in relevant part that any test procedures prescribed or amended under this section shall be reasonably designed to produce test results which measure energy efficiency, energy use or estimated annual operating cost of a covered product during a representative average use cycle or period of use and shall not be unduly burdensome to conduct. (42 U.S.C. 6293(b)(3))

In addition, if DOE determines that a test procedure amendment is warranted, it must publish proposed test procedures and offer the public an opportunity to present oral and written comments on them. (42 U.S.C. 6293(b)(2)) Finally, in any rulemaking to amend a test procedure, DOE must determine to what extent, if any, the proposed test procedure would alter the measured energy efficiency of any covered product as determined under the existing test procedure. (42 U.S.C. 6293(e)(1))

DOE's test procedures for clothes dryers are codified in appendix D, appendix D1, and appendix D2 to subpart B of Title 10 of the Code of Federal Regulations (CFR). DOE's predecessor, the Federal Energy Administration, established the test procedure for clothes dryers at appendix D in a final rule published in the Federal Register on September 14, 1977 (the September 1977 Final Rule). 42 FR 46145. On May 19, 1981, DOE published a final rule to amend the test procedure by establishing a field-use factor for clothes dryers with automatic termination controls, clarifying the test cloth specifications and clothes dryer preconditioning, and making editorial and minor technical changes. 46 FR 27324. The test procedure includes provisions for determining the energy factor (EF) for clothes dryers, which is a measure of the total energy required to dry a standard test load of laundry to a “bone dry” ³ state.

³ “Bone dry” is defined in the DOE clothes dryer test procedure as a condition of a load of test clothes which has been dried in a dryer at maximum temperature for a minimum of 10 minutes, removed and weighed before cool down, and then dried again for 10-minute periods until the final weight change of the load is 1 percent or less. (10 CFR subpart B, appendix D, section 1.2)

On January 6, 2011, DOE published in the Federal Register a final rule for the residential clothes dryer and room air conditioner test procedure rulemaking (76 FR 972), in which it (1) adopted the provisions for the measurement of standby mode and off mode energy use for those products along with a new energy efficiency metric for clothes dryers, combined energy factor (CEF), that incorporates energy use in active mode, standby mode, and off mode; and (2) adopted several amendments to the clothes dryer and room air conditioner test procedures concerning the active mode for these products. 76 FR 972. DOE created a new appendix D1 in 10 CFR part 430 subpart B that contained the amended test procedure for clothes dryers. 76 FR 1032 (Jan. 6, 2011).

DOE published a final rule on August 14, 2013, to amend the clothes dryer test procedure, in which it (1) amended appendix D1 to update the reference to the latest edition of the International Electrotechnical Commission (IEC) Standard 62301, “Household electrical appliances-Measurement of standby power,” Edition 2.0 2011-01; (2) amended appendix D and appendix D1 to clarify the cycle settings used for the test cycle, the requirements for the gas supply for gas clothes dryers, the installation conditions for console lights, the method for measuring the drum capacity, the maximum allowable weighing scale range, and the allowable use of a relative humidity meter; and (3) created a new appendix D2 that includes the amendments discussed above and testing methods for measuring the effects of automatic cycle termination. 78 FR 49608, 49610-12 (Aug. 14, 2013). Manufacturers must use the test procedures in appendix D1 to demonstrate compliance with energy conservation standards for clothes dryers as of January 1, 2015. 76 FR 52852, 52854 (Aug. 24, 2011) and 78 FR 49608, 49461 (Aug. 14, 2014). Alternatively, manufacturers may use the test procedures in appendix D2 to demonstrate compliance with January 2, 2015 energy conservation standards. 78 FR 49608, 49461 (Aug. 14, 2014).

Interested parties have commented publicly, as part of the previous test procedure rulemaking process and more recently through other public channels, that the DOE clothes dryer test procedures may not produce results that are representative of consumer use with regards to test load size and composition, cycle settings for the test cycle, and other provisions in the test procedure. DOE also notes that Oak Ridge National Laboratory and Pacific Northwest National Laboratory recently published reports evaluating clothes dryer performance using the new appendix D2 test method and preliminary investigations of new automatic cycle termination concepts for improving clothes dryer efficiency.4 5 6 In consideration of interested parties concerns regarding the test procedure and this recent clothes dryer automatic cycle termination research, DOE is initiating an effort to determine whether amendments to the test procedure are warranted, in accordance with 42 U.S.C. 6293(b)(2).

⁴ K. Gluesenkamp. Residential Clothes Dryer Performance Under Timed and Automatic Cycle Termination Test Procedures. 2014. Oak Ridge National Laboratory. Report No. ORNL/TM-2014/431. http://web.ornl.gov/sci/buildings/docs/2014-10-09-ORNL-DryerFinalReport-TM-2014-431.pdf.

⁵ W. TeGrotenhuis. Clothes Dryer Automatic Termination Sensor Evaluation. Volume 1: Characterization of Energy Use in Residential Clothes Dryers. 2014. Pacific Northwest National Laboratory. Report No. PNNL-23621. http://www.pnnl.gov/main/publications/external/technical_reports/PNNL-23621.pdf.

⁶ W. TeGrotenhuis. Clothes Dryer Automatic Termination Sensor Evaluation. Volume 2: Improved Sensor and Control Designs. 2014. Pacific Northwest National Laboratory. Report No. PNNL-23616. http://www.pnnl.gov/main/publications/external/technical_reports/PNNL-23616.pdf.

In addition, EPCA requires that, not later than 6 years after the issuance of a final rule establishing or amending a standard, DOE publish a NOPR proposing new standards or a notice of determination that the existing standards do not need to be amended. (42 U.S.C. 6295(m)(1)). Any test procedure amendments developed as part of the test procedure rulemaking initiated by today's notice may be considered in the next energy conservation standards rulemaking for residential clothes dryers.

Public Participation

DOE will hold a public meeting for interested parties to discuss issues related to the clothes dryer test procedure, including test load composition, test load size, test cycle settings, and any other issues related to developing a test method for measuring energy use during a representative average use cycle and to gather data from the public on these issues. During the meeting, DOE expects to present its latest available test data concerning automatic cycle termination and different test loads, and to invite discussion among interested parties on modifications to the test procedure to produce more representative test results while not being unduly burdensome to conduct. All of the feedback and data gathered during the public meeting will be used in consideration of any amendments to the DOE clothes dryer test procedure.

The public meeting will be conducted in an informal, facilitated, conference style. There shall be no discussion of proprietary information, costs or prices, market shares, or other commercial matters regulated by U.S. antitrust laws. A court reporter will record the proceedings of the public meeting, after which a transcript will be available for purchase from the court reporter and placed on the DOE Web site at: http://www1.eere.energy.gov/buildings/appliance_standards/product.aspx/productid/36.

Please note that foreign nationals participating in the public meeting are subject to advance security screening procedures which require advance notice prior to attendance at the public meeting. If a foreign national wishes to participate in the public meeting, please inform DOE of this fact as soon as possible by contacting Ms. Regina Washington at (202) 586-1214 or by email: Regina.Washington@ee.doe.gov so that the necessary procedures can be completed.

DOE requires visitors with laptop computers and other devices, such as tablets, to be checked upon entry into the building. Any person wishing to bring these devices into the Forrestal Building will be required to obtain a property pass. Visitors should avoid bringing these devices, or allow an extra 45 minutes to check in. Please report to the visitor's desk to have devices checked before proceeding through security.

Due to the REAL ID Act implemented by the Department of Homeland Security (DHS), there have been recent changes regarding ID requirements for individuals wishing to enter Federal buildings from specific states and U.S. territories. Driver's licenses from the following states or territory will not be accepted for building entry and one of the alternate forms of ID listed below will be required. DHS has determined that regular driver's licenses (and ID cards) from the following jurisdictions are not acceptable for entry into DOE facilities: Alaska, American Samoa, Arizona, Louisiana, Maine, Massachusetts, Minnesota, New York, Oklahoma, and Washington. Acceptable alternate forms of Photo-ID include: U.S. Passport or Passport Card; an Enhanced Driver's License or Enhanced ID-Card issued by the states of Minnesota, New York or Washington (Enhanced licenses issued by these states are clearly marked Enhanced or Enhanced Driver's License); a military ID or other Federal government issued Photo-ID card.

DOE will accept comments, data, and information regarding this proposed rule before or after the public meeting, but no later than the date provided in the DATES section at the beginning of this proposed rule. Interested parties may submit comments, data, and other information using any of the methods described in the ADDRESSES section at the beginning of this notice.

Submitting comments via regulations.gov. The regulations.gov Web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to regulations.gov information for which disclosure is restricted by statute, such as trade secrets and commercial or financial information (hereinafter referred to as Confidential Business Information (CBI)). Comments submitted through regulations.gov cannot be claimed as CBI. Comments received through the Web site will waive any CBI claims for the information submitted. For information on submitting CBI, see the Confidential Business Information section below.

DOE processes submissions made through regulations.gov before posting. Normally, comments will be posted within a few days of being submitted. However, if large volumes of comments are being processed simultaneously, your comment may not be viewable for up to several weeks. Please keep the comment tracking number that regulations.gov provides after you have successfully uploaded your comment.

Submitting comments via email, hand delivery/courier, or mail. Comments and documents submitted via email, hand delivery, or mail also will be posted to regulations.gov. If you do not want your personal contact information to be publicly viewable, do not include it in your comment or any accompanying documents. Instead, provide your contact information in a cover letter. Include your first and last names, email address, telephone number, and optional mailing address. The cover letter will not be publicly viewable as long as it does not include any comments

Include contact information each time you submit comments, data, documents, and other information to DOE. If you submit via mail or hand delivery/courier, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, that are written in English, and that are free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery/courier two well-marked copies: One copy of the document marked confidential including all the information believed to be confidential, and one copy of the document marked non-confidential with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

Issued in Washington, DC, on October 16, 2014.
Kathleen B. Hogan,
Deputy Assistant Secretary for Energy Efficiency, Energy Efficiency and Renewable Energy.

[FR Doc. 2014-25244 Filed 10-22-14; 8:45 am]

BILLING CODE 6450-01-P